DEPARTMENT OF HEALTH AND HUMAN SERVICES

National Institutes of Health

Submission for OMB Review; Comment Request; Request for Generic Clearance To Conduct Voluntary Customer/Partner Surveys

SUMMARY: Under the provisions of Section 3506(c)(2)(A) of the Paperwork Reduction Act of 1995, the National Library of Medicine (NLM), the National Institutes of Health (NIH) has submitted to the Office of Management and Budget (OMB) a request to review and approve the information collection listed below. This proposed information collection was previously published in the Federal Register on September 21, 1999, in Volume 64, No. 182, page 51132 and allowed 60 days for public comment. No public comments were received. The purpose of this notice is to allow an additional 30 days for public comment. The National Library of Medicine may not conduct or sponsor, and the respondent is not required to respond to, an information collection that has been extended, revised, or implemented on or after October 1, 1995, unless it displays a currently valid OMB control number.

Proposed Collection: Title: Voluntary Customer Satisfaction Surveys. Type of Information Collection Request: New. Need and Use of Information Collection: Executive Order 12962 directs agencies that provide significant services directly to the public to survey customers to determine the kind and quality of services they want and their level of satisfaction with existing services. Additionally, since 1994, the NLM has been a “Federal Reinvention Laboratory” with a goal of improving its methods of delivering information to the public. An essential strategy in accomplishing reinvention goals is the ability to periodically receive input and feedback from customers about the design and quality of the services they receive.

The NLM provides significant services directly to the public including health providers, researchers, universities, other federal agencies, state and local governments, and to others through a range of mechanisms, including publications, technical assistance, and web sites. These services are primarily focused on health and medical information dissemination activities. The purpose of this submission is to obtain OMB's generic approval to conduct satisfaction surveys of NLM's customers. The NLM will use the information provided by individuals and institutions to identify strengths and weaknesses in current services and to make improvements where feasible. The ability to periodically survey NLM's customers is essential to continually update and upgrade methods of providing high quality service. Frequency of Response: Annually or biennially. Affected Public: Individuals or households; businesses or other for profit; state or local governments; Federal agencies; non-profit institutions; small businesses or organizations. Type of Respondents: Organizations, medical researchers, physicians and other health care providers, librarians, students, and the general public. Annual reporting burden is as follows:

Title of survey | Type of survey | Number of respondents | Estimated response time | Burden hours
Evaluation of Clinical Studies Database | Web-based | 1,000 | .167 | 167
Visible Human Project—Image Processing Tools | Electronic Mail | 1,000 | .25 | 250
PubMed | Web-based | 5,000 | .0835 | 418
Entrez | Web-based | 2,000 | .0835 | 167
GeneMap | Web-based | 2,000 | .0835 | 167
NCBI Web Site | Web-based | 2,000 | .0835 | 167
NLM Service Desk Survey | Interactive Voice Response telephone | 400 | .0835 | 33
NLM Onsite Reading Room Use | Exit Interview | 500 | .167 | 84
NLM Electronic Mail Customer Survey | Electronic Mail | 1,000 | .0835 | 84
MEDLINEplus User Survey | Web-based | 500 | .0835 | 59
Survey of Unified Medical Language System (UMLS) Use | Mail Survey | 1,000 | .5 | 500
NLM Services Satisfaction Survey | Web-based | 2,000 | .0835 | 167
Total |  |  |  | 2,263

The annualized cost to respondents is estimated at $30,256. There are no capital costs to report. There are no operating or maintenance costs to report.

Request for Comments: Written comments and/or suggestions from the public and affected agencies are invited on one or more of the following points: (1) Whether the proposed collection of information is necessary for the proper performance of the function of the agency, including whether the information will have practical utility; (2) The accuracy of the agency's estimate of the burden of the proposed collection of information; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) in this notice, especially regarding the estimated public burden and associated response time, should be directed to the: Office of Management and Budget, Office of Regulatory Affairs, New Executive Office Building, Room 10235, Washington, DC 20503, Attention: Desk Officer for NIH. To request more information on the proposed collection of information contact: Ronald F. Stewart, National Library of Medicine, Building 38, Room 2N07, 8600 Rockville Pike, Bethesda, MD 20894, or call non-toll free number (301) 496-6491. You may also e-mail your request to: ron_stewart@nlm.nih.gov.

Comments Due Date: Comments regarding this information collection are best assured of having their full effect if received by February 28, 2000.

Dated: January 20, 2000.
Donald C. Poppke,
Associate Director for Administrative Management, National Library of Medicine.

[FR Doc. 00-1937 Filed 1-27-00; 8:45 am]

BILLING CODE 4140-01-P